DEPARTMENT OF ENERGY

Federal Energy Regulatory Commission

Combined Notice of Filings #1

November 20, 2009.

Take notice that the Commission received the following electric corporate filings:

Docket Numbers: EC10-22-000.

Applicants: Cleco Power LLC, Acadia Power Partners, LLC.

Description: Cleco Power LLC and Acadia Power Partners, LLC submits joint application for Order Authorizing Acquisition and Disposition of Jurisdictional Facilities under Section 203 of the Federal Power Act.

Filed Date: 11/16/2009.

Accession Number: 20091120-0201.

Comment Date: 5 p.m. Eastern Time on Monday, December 07, 2009.

Take notice that the Commission received the following electric rate filings:

Docket Numbers: ER96-780-024; ER03-1383-013; ER01-1633-010; ER00-3240-013.

Applicants: DeSoto County Generating Company, LLC, Oleander Power Project, L.P., Southern Company—Florida LLC, Southern Power Company, Southern Company Services, Inc.

Description: Request for Confirmation of Southern Power Company, et al.

Filed Date: 10/20/2009.

Accession Number: 20091020-5095.

Comment Date: 5 p.m. Eastern Time on Monday, November 30, 2009.

Docket Numbers: ER10-92-001.

Applicants: EDF Trading North America, LLC.

Description: Notice of Change of Status of EDF Trading North America, LLC.

Filed Date: 11/19/2009.

Accession Number: 20091119-5124.

Comment Date: 5 p.m. Eastern Time on Thursday, December 10, 2009.

Docket Numbers: ER10-287-000.

Applicants: PacifiCorp.

Description: PacifiCorp Energy submits notice of termination of Rate Schedule FERC No 392.

Filed Date: 11/18/2009.

Accession Number: 20091119-0062.

Comment Date: 5 p.m. Eastern Time on Wednesday, December 9, 2009.

Docket Numbers: ER10-288-000.

Applicants: Carolina Power & Light Company & Florida.

Description: Progress Energy Service Co, LLC submit proposed modifications to the Joint Open Access Transmission Tariff.

Filed Date: 11/18/2009.

Accession Number: 20091119-0061.

Comment Date: 5 p.m. Eastern Time on Wednesday, December 9, 2009.

Docket Numbers: ER10-289-000.

Applicants: Florida Power & Light Company.

Description: Florida Power & Light Company submits Seventh Revised Service Agreement No 162.

Filed Date: 11/18/2009.

Accession Number: 20091119-0057.

Comment Date: 5 p.m. Eastern Time on Wednesday, December 9, 2009.

Docket Numbers: ER10-290-000.

Applicants: New York Independent System Operator, Inc.

Description: New York Independent System Operator, Inc submits revisions to its Open Access Transmission Tariff with respect to the NYISO's interconnection queue study processes.

Filed Date: 11/18/2009.

Accession Number: 20091119-0056.

Comment Date: 5 p.m. Eastern Time on Wednesday, December 9, 2009.

Docket Numbers: ER10-291-000.

Applicants: Florida Power & Light Company.

Description: Florida Power & Light Company submits First Revised Service Agreement 80 and First Revised Sheets 9, 39, and 40 to First Revised Rate Schedule 110 and requests waiver of the Commission's 60 days notice requirement etc.

Filed Date: 11/18/2009.

Accession Number: 20091119-0048.

Comment Date: 5 p.m. Eastern Time on Wednesday, December 9, 2009.

Take notice that the Commission received the following electric reliability filings:

Docket Numbers: RD10-3-000.

Applicants: North American Electric Reliability Corp.

Description: Petition of the North American Electric Reliability Corporation for Approval of an Interpretation to Reliability Standard CIP-007-2, Requirement R2.

Filed Date: 11/17/2009.

Accession Number: 20091117-5085.

Comment Date: 5 p.m. Eastern Time on Tuesday, December 08, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-29084 Filed 12-4-09; 8:45 am]

BILLING CODE 6717-01-P